DEPARTMENT OF AGRICULTURE

Forest Service

Ozark-Ouachita Resource Advisory Committee

AGENCY: Forest Service, Agriculture (USDA).

ACTION: Notice of meeting.

SUMMARY: The Ozark-Ouachita Resource Advisory Committee (RAC) will hold a public meeting according to the details shown below. The committee is authorized under the Secure Rural Schools and Community Self-Determination Act (the Act) and operates in compliance with the Federal Advisory Committee Act. The purpose of the committee is to improve collaborative relationships and to provide advice and recommendations to the Forest Service concerning projects and funding consistent with Title II of the Act, as well as make recommendations on recreation fee proposals for sites on the Ouachita and Ozark-St. Francis National Forests within the counties of Arkansas and Oklahoma, consistent with the Federal Lands Recreation Enhancement Act.

DATES: An in-person and virtual meeting will be held on April 16, 2025, 1 p.m. to 5 p.m. Central Daylight Time.

Written and Oral Comments: Anyone wishing to provide in-person and/or virtual oral comments must pre-register by 11:59 p.m. Central Daylight Time on April 11, 2025. Written public comments will be accepted by 11:59 p.m. Central Daylight Time on April 11, 2025. Comments submitted after this date will be provided to the Agency, but the Committee may not have adequate time to consider those comments prior to the meeting.

All committee meetings are subject to cancellation. For status of the meeting prior to attendance, please contact the person listed under FOR FURTHER INFORMATION CONTACT.

ADDRESSES: This meeting will be held in-person and virtually at the Ozark-St. Francis National Forests Supervisor's Office, located at 605 West Main Street, Russellville, Arkansas. Committee information and meeting details can be found at the following website: https://www.fs.usda.gov/osfnf or by contacting the person listed under FOR FURTHER INFORMATION CONTACT.

Written Comments: Written comments must be sent by email to caroline.mitchell@usda.gov via mail (postmarked) to Caroline Mitchell, Ouachita National Forest, P.O. Box 1270, Hot Springs, AR 71902. The Forest Service strongly prefers comments be submitted electronically.

Oral Comments: Persons or organizations wishing to make oral comments must pre-register by 11:59 p.m. Central Daylight Time, April 9, 2025, and speakers can only register for one speaking slot. Oral comments must be sent by email to caroline.mitchell@usda.gov or via mail (postmarked) to Caroline Mitchell, Ouachita National Forest, P.O. Box 1270, Hot Springs, AR 71902.

FOR FURTHER INFORMATION CONTACT: Craig McBroome, Designated Federal Officer, by phone at 479-964-7248 or email robert.mcbroome@usda.gov; or Caroline Mitchell, RAC Coordinator, by phone at 501-321-5318 or email caroline.mitchell@usda.gov.

SUPPLEMENTARY INFORMATION: The purpose of the meeting is to:

1. Elect a Chairperson;

2. Hear from Title II project proponents and discuss Title II project proposals;

3. Make funding recommendations on Title II projects;

4. Schedule the next meeting; and

5. Other.

The agenda will include time for individuals to make oral statements of three minutes or less. Individuals wishing to make an oral statement should make a request in writing at least three days prior to the meeting date to be scheduled on the agenda. Written comments may be submitted to the Forest Service up to 14 days after the meeting date listed under DATES.

Please contact the person listed under FOR FURTHER INFORMATION CONTACT, by or before the deadline, for all questions related to the meeting. All comments, including names and addresses when provided, are placed in the record and are available for public inspection and copying. The public may inspect comments received upon request.

Meeting Accommodations: The meeting location is compliant with the Americans with Disabilities Act, and the USDA provides reasonable accommodation to individuals with disabilities where appropriate. If you are a person requiring reasonable accommodation, please make requests in advance for sign language interpretation, assistive listening devices, or other reasonable accommodation to the person listed under the FOR FURTHER INFORMATION CONTACT section, or contact USDA's TARGET Center at (202) 720-2600 (voice and TTY) or USDA through the Federal Relay Service at (800) 877-8339. Additionally, program information may be made available in languages other than English.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Dated: March 25, 2025.
Cikena Reid,
USDA Committee Management Officer.

[FR Doc. 2025-05383 Filed 3-31-25; 8:45 am]

BILLING CODE 3411-15-P